DEPARTMENT OF AGRICULTURE

Animal and Plant Health Inspection Service

9 CFR Part 94

[Docket No. 01-094-2]

Change in Disease Status of Japan Because of BSE

AGENCY: Animal and Plant Health Inspection Service, USDA.

ACTION: Affirmation of interim rule as final rule.

SUMMARY: We are adopting as a final rule, without change, an interim rule that amended the regulations by adding Japan to the list of regions where bovine spongiform encephalopathy exists because the disease had been detected in a native-born animal in that region. The effect of the interim rule was a restriction on the importation of ruminants that have been in Japan and meat, meat products, and certain other products of ruminants that have been in Japan. The interim rule was necessary in order to help prevent the introduction of bovine spongiform encephalopathy into the United States.

EFFECTIVE DATE: The interim rule became effective on September 10, 2001.

FOR FURTHER INFORMATION CONTACT: Dr. Gary Colgrove, Chief Staff Veterinarian, National Center for Import and Export, Sanitary Issues Management Staff, VS, APHIS, 4700 River Road Unit 38, Riverdale, MD 20737-1231; (301) 734-4356.

SUPPLEMENTARY INFORMATION:

Background

In an interim rule effective September 10, 2001, and published in the Federal Register on October 16, 2001 (66 FR 52483-52484, Docket No. 01-094-1), we amended the regulations by adding Japan to the list in § 94.18(a)(1) of regions where bovine spongiform encephalopathy(BSE) is known to exist. Due to the detection of BSE in a native-born animal in that region, the interim rule was necessary to help prevent the introduction of BSE into the United States.

Comments on the interim rule were required to be received by December 17, 2001. We did not receive any comments. Therefore, for the reasons given in the interim rule, we are adopting the interim rule as a final rule.

This action also affirms the information contained in the interim rule concerning Executive Orders 12866 and 12988 and the Paperwork Reduction Act. Further, for this action, the Office of Management and Budget has waived the review process required by Executive Order 12866.

Regulatory Flexibility Act

This rule affirms an interim rule that amended the regulations by adding Japan to the list of regions where BSE exists because the disease had been detected in a native-born animal in that region. The effect of the interim rule was a restriction on the importation of ruminants that have been in Japan and meat, meat products, and certain other products of ruminants that have been in Japan. The interim rule was necessary to help prevent the introduction of BSE into the United States.

The following analysis addresses the economic effect of this rule on small entities, as required by the Regulatory Flexibility Act.

The interim rule is expected to have an insignificant impact on U.S. entities because ruminants and ruminant products are either not imported from Japan or imported in very small amounts, as shown in table 1. The only category of commodities that Japan has been supplying in greater-than-negligible amounts is animal feed preparations other than dog and cat food (Harmonized Tariff Schedule 230990). For this category, Japan supplied about 5 percent of imports, by value, over the 3-year period 1998-2000. However, this level is not significant, particularly when considered in terms of the value of U.S. domestic shipments of animal feed preparations other than dog and cat food.

Table 1.—The Value of U.S. Imports of Ruminants and Ruminant Products From Japan, 1998-2000
| Imports from Japan (million dollars) | Total imports (million dollars) | Percentage from Japan
Live ruminants:
Bovine |  | $3,312 | 0
Sheep and goats |  | 17 | 0
Meat and meat byproducts:
Beef fresh/chilled | $2.000 | 2,760 | 0.07
Beef frozen |  | 2,977 | 0
Sheep or goat meat |  | 575 | 0
Edible animal offal |  | 251 | 0
Salted or dried bovine meat |  | 9 | 0
Other of animal origin | 1.000 | 224 | 0.45
Sausage and similar prepared meat |  | 56 | 0
Other bovine meat | 0.006 | 651 | <0.01
Animal feed: dogs and cats | 0.074 | 413 | 0.02
Animal feed: other | 36.000 | 681 | 5.29
Source: U.S. Bureau of the Census, as reported in the World Trade Atlas.

The average annual value of imports of ruminants and ruminant products from Japan between 1998 and 2000 was approximately $12 million. This amount is less than 0.1 percent of $19.17 billion, the value of U.S. shipments of animal feed preparations other than dog and cat food in 1997 (the year of the last economic census conducted by the Bureau of the Census).

The Regulatory Flexibility Act requires that agencies consider the effects of their rules on small entities. An industry that could be affected by the interim rule is Other Animal Food Manufacturing (NAICS code 311119), for which the small entity criterion is 500 or fewer employees. The 1997 Economic Census reports that all of the 1,514 Other Animal Food Manufacturing establishments had 500 or fewer employees. However, the relatively small quantity of animal feed preparations other than dog and cat food imported from Japan would suggest that the number of these establishments affected would not be substantial, and those that are would not be affected significantly.

The interim rule's restrictions on the importation of ruminants and ruminant products and byproducts from Japan due to BSE are expected to have an insignificant effect on small entities. The only category of prohibited products for which Japan has a history of export to the United States of greater-than-negligible value is animal feed preparations other than dog and cat food. However, imports of these products from Japan comprise less than 0.1 percent of U.S. domestic shipments.

Under these circumstances, the Administrator of the Animal and Plant Health Inspection Service has determined that this action will not have a significant economic impact on a substantial number of small entities.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

Accordingly, we are adopting as a final rule, without change, the interim rule that amended 9 CFR part 94 and that was published at 66 FR 52483-52484 on October 16, 2001.

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

Done in Washington, DC, this 19th day of February 2002.
W. Ron DeHaven,
Acting Administrator, Animal and Plant Health Inspection Service.

[FR Doc. 02-4261 Filed 2-21-02; 8:45 am]

BILLING CODE 3410-34-U